DEPARTMENT OF TRANSPORTATION

Maritime Administration

[Docket No. DOT-MARAD 2014-0042]

Request for Comments of a Previously Approved Information Collection

AGENCY: Maritime Administration (MARAD), Department of Transportation.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on January 6, 2014 (Federal Register 701, Vol. 79, No. 3).

DATES: Comments must be submitted on or before April 14, 2014.

FOR FURTHER INFORMATION CONTACT: Michael Pucci, Office of Maritime Program, Maritime Administration, 1200 New Jersey Avenue SE., Washington, DC 20590. Telephone: 202-366-5167; FAX: 202-366-7485; or email: michael.pucci@dot.gov. Copies of this collection also can be obtained from that office.

SUPPLEMENTARY INFORMATION: Title: Requirements for Establishing U.S. Citizenship—46 CFR Part 355

OMB Control Number: 2133-0012

Type of Request: Renewal of a Previously Approved Information Collection

Abstract: In accordance with 46 CFR part 355, shipowners, charterers, equity owners, ship managers, etc., seeking benefits provided by statute are required to provide on an annual basis, an Affidavit of U.S. Citizenship to the Maritime Administration (MARAD) for analysis. The Affidavits of U.S. Citizenship filed with MARAD will be reviewed to determine if the Applicants are eligible to participate in the programs offered by the agency.

Affected Public: Shipowners, charterers, equity owners, ship managers.

Estimated Number of Respondents: 500.

Estimated Number of Responses: 500.

Annual Estimated Total Annual Burden Hours: 2500.

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:93.

Dated: March 11, 2014.
Julie P. Agarwal,
Secretary, Maritime Administration.

[FR Doc. 2014-05734 Filed 3-13-14; 8:45 am]

BILLING CODE 4910-81-P